DEPARTMENT OF HOMELAND SECURITY

Coast Guard

33 CFR Part 117

[CGD01-04-023]

Drawbridge Operation Regulations: Newtown Creek, Dutch Kills, English Kills, and Their Tributaries, NY

AGENCY: Coast Guard, DHS.

ACTION: Notice of temporary deviation from regulations.

SUMMARY: The Commander, First Coast Guard District, has issued a temporary deviation from the drawbridge operation regulations for the Metropolitan Avenue Bridge, mile 3.4, across English Kills at New York City, New York. Under this temporary deviation the bridge may remain closed from 7 a.m. on April 26, 2004 through 4 p.m. on May 1, 2004, and from 7 a.m. on June 9, 2004 through 4 p.m. on June 12, 2004, to facilitate necessary bridge maintenance.

DATES: This deviation is effective from April 26, 2004 through June 12, 2004.

FOR FURTHER INFORMATION CONTACT: Joe Arca, Project Officer, First Coast Guard District, at (212) 668-7069.

SUPPLEMENTARY INFORMATION: The New York City Department of Transportation (NYCDOT) Metropolitan Avenue Bridge has a vertical clearance in the closed position of 10 feet at mean high water and 15 feet at mean low water. The existing drawbridge operation regulations are listed at 33 CFR 117.801(e).

NYCDOT, requested a temporary deviation from the drawbridge operation regulations to facilitate repairs to the electrical controls at the bridge. The bridge must remain in the closed position to perform these repairs.

Under this temporary deviation the NYCDOT Metropolitan Avenue Bridge may remain in the closed position from 7 a.m. on April 26, 2004 through 4 p.m. on May 1, 2004 and from 7 a.m. on June 9, 2004 through 4 p.m. on June 12, 2004.

This deviation from the operating regulations is authorized under 33 CFR 117.35, and will be performed with all due speed in order to return the bridge to normal operation as soon as possible.

Dated: April 7, 2004.
John L. Grenier,
Captain, U.S. Coast Guard , Acting Commander, First Coast Guard District.

[FR Doc. 04-8862 Filed 4-19-04; 8:45 am]

BILLING CODE 4910-15-P